ENVIRONMENTAL PROTECTION AGENCY

[Petition IV-2003-7; FRL-7838-5]

Clean Air Act Operating Permit Program; Petition for Objection to State Operating Permit for Cargill, Inc.—Soybean Oil Mill; Gainesville (Hall County), GA

AGENCY: Environmental Protection Agency (EPA).

ACTION: Notice of amended final order on petition to object to a state operating permit.

SUMMARY: On October 19, 2004, EPA amended an order signed by the Administrator on July 16, 2004, partially granting and partially denying a petition to object to a state operating permit issued by the Georgia Environmental Protection Division (EPD) to Cargill, Inc.—Soybean Oil Mill (Cargill) located in Gainesville, Hall County, Georgia, pursuant to title V of the Clean Air Act, 42 U.S.C. 7661-7661f. The July 16, 2004 Order was amended to delete two references to a cement kiln in Section IV.A. The deletions were made because:

(1) The citation for the cement kiln reference on page 6 of the original Order was incorrect. The reference originally cited to Petitioners' Consultant's Report: the Letter from Bill Powers, P.E. of Powers Engineering to Curtis Cox of Georgia Center for Law in the Public Interest (GCLPI) (October 3, 2002). While the actual date for the Powers Report was October 3, 2003, the correct citation to the cement kiln reference should have been to Cargill's Consultant's July 17, 2002 Report: Letter from Todd Cloud of Trinity Consultants to Mr. James Capp of EPD (July 17, 2002); and

(2) In re-reviewing the correct permit record document relating to the cement kiln reference on page 6 of the original Order, EPA has become concerned that the cement kiln information contained in the July 17, 2002 Letter from Todd Cloud of Trinity Consultants to Mr. James Capp of EPD may have been erroneously included in Trinity's Report and may not be accurate as applied to Cargill's Gainesville, Georgia facility.

The deletion of the two references to a cement kiln in Section IV.A does not impact or alter EPA's original finding that the permit narrative and permit record provided little explanation for the numerical reasonable available control technology (RACT) limit chosen for boiler B001, nor does it impact or alter EPA's original grant of the Petitioners' claim that the narrative and permit record are inadequate on the numerical RACT limit for boiler B001.

ADDRESSES: Copies of the amended final order, the petition, and all pertinent information relating thereto are on file at the following location: EPA Region 4, Air, Pesticides and Toxics Management Division, 61 Forsyth Street SW., Atlanta, Georgia 30303-8960. The amended final order is also available electronically at the following address: http://www.epa.gov/region7/programs/artd/air/title5/petitiondb/petitions/cargillamendment_decision2003(amended).pdf.

FOR FURTHER INFORMATION CONTACT: Art Hofmeister, Air Permits Section, EPA Region 4, at (404) 562-9115 or hofmeister.art@epa.gov.

SUPPLEMENTARY INFORMATION: GCLPI originally submitted a petition on behalf of the Sierra Club to the Administrator on October 7, 2003, requesting that EPA object to a state title V operating permit issued by EPD to Cargill. The Petitioner maintains that the Cargill permit is inconsistent with the Act due to: (1) The inadequacy of EPD's RACT determinations for various emission units; (2) the inadequacy of various monitoring and reporting requirements; (3) the inadequacy of the statement of basis; and (4) the permit's inability to assure compliance.

Dated: November 10, 2004.
A. Stanley Meiburg,
Deputy Regional Administrator, Region 4.

[FR Doc. 04-25623 Filed 11-17-04; 8:45 am]

BILLING CODE 6560-50-P